FEDERAL COMMUNICATIONS COMMISSION

47 CFR Part 90

[WT Docket No. 99-87; FCC 03-306]

Suspension of Effective Date in 47 CFR 90.209(b)(6)

AGENCY: Federal Communications Commission.

ACTION: Final rule; suspension of effectiveness.

SUMMARY: In this document, the Commission grants four petitions for stay of the Second Report and Order, released on February 25, 2003, in this proceeding. Specifically, the FCC stays the effectiveness of 47 CFR 90.209(b)(6), which provides that no new applications for the 150-174 MHz and/or 421-512 MHz bands will be acceptable for filing if the applicant utilizes channels with a bandwidth exceeding 11.25 kHz beginning January 13, 2004, and no modification applications for stations in the 150-174 MHz and/or 421-512 MHz bands that increase the station's authorized interference contour will be acceptable for filing if the applicant utilizes channels with a bandwidth exceeding 11.25 kHz, beginning January 13, 2004. Consequently, the FCC will continue to accept and process such applications.

DATES: Effective April 6, 2004, 47 CFR 90.209(b)(6) is stayed indefinitely. The Commission will publish a document in the Federal Register announcing the date on which the stay expires.

FOR FURTHER INFORMATION CONTACT: Scot Stone, Public Safety and Critical Infrastructure Division, Wireless Telecommunications Bureau, at (202) 418-0680.

SUPPLEMENTARY INFORMATION: This is a summary of the Order, released on December 3, 2003. The full text of this document is available for public inspection and copying during regular business hours at the FCC Reference Information Center, Portals II, 445 12th Street, SW., Room CY-A257, Washington DC 20554. This document may also be purchased from the Commission's duplicating contractor, Qualex International, Portals II, 445 12th Street, SW., Room CY-B402, Washington, DC 20554, telephone 202-863-2893, facsimile 202-863-2898, or via e-mail qualexint@aol.com. The full text may also be downloaded at: http://www.fcc.gov/Wireless/Orders/2003/fcc03306.txt. Alternative formats are available to persons with disabilities by contacting Brian Millin at (202) 418-7426 or TTY (202) 418-7365.

In the Order, the Commission stayed the effectiveness of 47 CFR 90.209(b)(6), which provides that no new applications for the 150-174 MHz and/or 421-512 MHz bands will be acceptable for filing if the applicant utilizes channels with a bandwidth exceeding 11.25 kHz beginning January 13, 2004, and no modification applications for stations in the 150-174 MHz and/or 421-512 MHz bands that increase the station's authorized interference contour will be acceptable for filing if the applicant utilizes channels with a bandwidth exceeding 11.25 kHz, beginning January 13, 2004. The stay will remain in effect until resolution of the petitions for reconsideration of the Second Report and Order, 68 FR 42296, July 17, 2003, released on February 25, 2003, in this proceeding.

Federal Communications Commission.
Marlene H. Dortch,
Secretary.

[FR Doc. 04-7366 Filed 4-5-04; 8:45 am]

BILLING CODE 6712-01-P